DEPARTMENT OF ENERGY

Revised Public Participation Policy Guidance

AGENCY: Department of Energy.

ACTION: Notice of availability and solicitation of comments.

SUMMARY: The Department of Energy (DOE) today makes available, and is soliciting public comments on, proposed revisions to its Public Participation Policy internal directive (DOE P 1210.1, issued July 29, 1994). The proposed revisions are intended to clarify and update the policy guidance in the directive and to expand it to incorporate findings and recommendations of the Secretary of Energy Advisory Board's Openness Advisory Panel on improving relations between DOE facilities and their host communities. Under DOE's Directives System, all documents must be reviewed periodically for currency and appropriateness. This policy is not intended to affect requirements imposed by law, regulation, or contractual agreement; neither does it expand or limit any rights available to the public under current law.

DATES: The public comment period will extend to April 30, 2001. Comments received after that date will be considered to the extent practicable.

ADDRESSES: Written comments may be provided by mail to: U.S. Department of Energy, Nevada Operations Office, Office of Public Affairs and Information, P.O. Box 98518—Attn: DOE PPP Comments, Las Vegas, NV 89193-8518.

by fax to (702) 295-0154—Attn: DOE PPP Comments

or electronically to: DOEPPP_it@nv.doe.gov.

FOR FURTHER INFORMATION CONTACT: Copies of the Proposed Revised Public Participation and Community Relations Policy are available on DOE's World Wide Web Site at http://www.energy.gov, under “Headlines.” Copies may also be obtained by writing or calling: The Center for Environmental Management Information, P.O. Box 23769, Washington, DC 20026, Telephone: 1-800-736-3282 (in Washington, DC: 202-863-5084).

For further information on the purpose and substance of DOE's Public Participation and Community Relations Policy, please write or call: Ms. Elizabeth A. Nolan, Senior Advisor, Office of Congressional & Intergovernmental Affairs (CI-1), U.S. Department of Energy, 1000 Independence Avenue, SW., Washington, DC 20585, Telephone: 202-586-7328.

SUPPLEMENTARY INFORMATION:

Background

DOE issued its Public Participation Policy (DOE P 1210.1) on July 29, 1994. The Policy was in the form of an internal directive that provided policy guidance for DOE officials. Under DOE's Directives System, all documents must be reviewed periodically for currency and appropriateness.

A Task Force of DOE headquarters program and field site managers actively involved in public participation activities was convened to review the policy. The Task Force proposed revisions to clarify and update the policy to reflect current practices and the lessons of six years' experience with public participation.

At about the same time, the Openness Advisory Panel of the Secretary of Energy Advisory Board undertook a review of DOE's relationships with the communities surrounding its laboratories and facilities to assess how DOE is perceived as a neighbor, what it is doing well, and what it could do better. The Panel's initial review focused on Lawrence Berkeley National Laboratory and Lawrence Livermore National Laboratory, both in California, and on the Fernald Plant, in Ohio. On November 17, 2000 the Openness Advisory Panel issued its report, titled Relations between DOE Facilities and their Host Communities: A Pilot Review, which presented Findings and Recommendations on improving community relations. As keys to success, the Openness Advisory Panel identified full, open, timely, two-way communication, the building of positive personal relationships, and accountability on the part of DOE managers. The importance of these elements has been reaffirmed and strengthened in the proposed revisions.

Proposed Revised Policy

Under the proposed revised Public Participation and Community Relations Policy, public participation would be defined as open, ongoing two-way communication, both formal and informal, between DOE and its stakeholders concerning DOE's missions and activities. The Policy would recognize that effective public participation is at the core of good community relations, which are essential for DOE facilities to achieve their missions. Under this Policy, DOE would actively seek, consider, and incorporate or otherwise respond in a timely manner to the views of its stakeholders and affected communities in making its decisions. This Policy would function as a framework within which all DOE programs, including programs of the National Nuclear Security Administration, would operate.

The proposed Public Participation and Community Relations Policy is being released for public comment prior to DOE's decision to approve any of the recommended changes.

Issued in Washington D.C., January 16, 2001.
Linda Lingle,
Principal Deputy Assistant Secretary, Office of Congressional and Intergovernmental Affairs.

[FR Doc. 01-2370 Filed 1-25-01; 8:45 am]

BILLING CODE 6450-01-P